DEPARTMENT OF TRANSPORTATION

Coast Guard

33 CFR Part 165

[CGD1-00-129]

RIN 2115-AA97

Safety Zone: Maine Yankee Steam Generator and Pressurizer Removal Wiscasset, ME

AGENCY: Coast Guard, DOT.

ACTION: Temporary final rule.

SUMMARY: The Coast Guard is establishing a temporary safety zone in a 200-yard radius from position 43°56°55′N, 069″41′53″ W, the southeast corner of the Maine Yankee Barge slip. This safety zone precludes entry into the cove between Bailey's point and Foxbird Island and portions of the Eastern Shore of Bailey Cove, Wiscasset, ME. This safety zone is needed to protect persons, facilities, vessels and others in the maritime community from the safety hazards associated with the handling, loading, and transportation of four major components of the Maine Yankee Nuclear Plant which are classified as Class 7 Hazardous Waste.

EFFECTIVE DATE: This rule is effective from May 22, 2000 through July 22, 2000.

FOR FURTHER INFORMATION CONTACT: Lieutenant R. V. Timme, Chief of Response and Planning, Captain of the Port, Portland at (207) 780-3251.

SUPPLEMENTARY INFORMATION:

Regulatory History

As authorized by 5 U.S.C. 553, a notice of proposed rulemaking (NPRM) was not published for this regulation. Under 5 U.S.C 553(b)(B), the Coast Guard finds that good cause exists for not publishing an NPRM and for making this rule effective less that 30 days after publication in the Federal Register. Due to the complex planning and coordination involved final details for the closure were not provided to the Coast Guard until April 30, 2000, making it impossible to publish a NPRM or a final rule 30 days in advance. Any delay in implementing this rule would be contrary to the public interest since immediate action is necessary to close this section of the waterway and protect the maritime public from the hazards associated with the handling, loading and transportation of major components containing class 7 hazardous waste from a nuclear power plant onto a barge.

Background and Purpose

Beginning May 22 and ending July 22, 2000, Stone and Webster, the decommissioning contractor, will load and transport four major components from the Maine Yankee Nuclear Plant to a barge in the Maine Yankee barge slip in Wiscasset, Maine. This regulation establishes a temporary safety zone within 200-yard radius around the southeast corner of the Maine Yankee Barge slip located at position 43°56′55″ N, 069°41′53″ W. This would effectively preclude entry into the cove between Bailey's Point and Foxbird Island and portions of the Eastern Shore of Bailey Cove. This rule is necessary to protect the maritime public from hazards associated with the loading of components of a nuclear power plant, which contain class 7 hazardous waste, onto a barge.

Regulatory Evaluation

This temporary final rule is not a significant regulatory action under section 3(f) of Executive Order 12866 and does not require an assessment of potential costs and benefits under section 6(a)(3) of that order. It has not been reviewed by the Office of Management and Budget under that order. It is not significant under the regulatory policies and procedures of the Department of Transportation (DOT) (44 FR 11040; February 26, 1979). The Coast Guard expects the economic impact of this proposal to be so minimal that a full Regulatory Evaluation under paragraph 10e of the regulatory policies and procedures of DOT is unnecessary. This conclusion is based on the fact that the proposal has no significant effect on shipping, and its impact on fishing is minimal as it removes a small portion (less than one square mile) of the available fishing grounds from active fishing.

Small Entities

Under the Regulatory Flexibility Act (5 U.S.C. 601 et seq.), the Coast Guard must consider whether this proposal will have a significant economic impact on a substantial number of small entities. “Small entities” may include (1) Small businesses and not-for-profit organizations that are independently owned and operated and are not dominant in their fields and (2) governmental jurisdictions with populations of less than 50,000.

For the reasons addressed under the Regulatory Evaluation above, the Coast Guard expects the impact of this regulation to be minimal and certifies under section 605(b) of the Regulatory Flexibility Act (5 U.S.C. 601 et seq.) that this final rule will not have a significant economic impact on substantial number of small entities.

This rule will affect the following entities, some of which may be small entities: The commercial fishing community intending to fish portions of Wiscasset restricted by the safety zone.

This safety zone will not have a significant economic impact on a substantial number of small entities for the following reasons: it only affects a very small portion of the waterway and commercial fishing community will be able to utilize other areas of waterway for commercial purposes.

Collection of Information

This rule contains no collection of information requirements under the Paperwork Reduction Act (44 U.S.C. 3501 et seq.).

Federalism

The Coast Guard has analyzed this rule under the principles and criteria contained in Executive Order 13132 and have determined that this rule does not have sufficient federalism implications for Federalism under that order.

Unfunded Mandates Reform Act

The Unfunded Mandates Reform Act of 1995 (2 U.S.C. 1531-1538) governs the issuance of Federal regulations that require unfunded mandates. An Unfunded Mandate is a regulation that requires a state, local or tribal government or the private sector to incur costs without the Federal government's having first provided the funds to pay those costs. This rule will not impose an Unfunded Mandate.

Taking of Private Property

This rule will not effect a taking of private property or otherwise have taking implications under Executive Order 12630, Governmental Actions and Interference with Constitutionally Protected Property Rights.

Civil Justice Reform

This rule meets applicable standards in section 3(a) and 3(b)(2) of Executive Order 12988, Civil Justice Reform, to minimize litigation, eliminate ambiguity and reduce burden.

Protection of Children

The Coast Guard has analyzed this rule under Executive Order 13045, Protection of Children from Environmental Health Risks and Safety Risks. This rule is not an economically significant rule and does not concern an environmental risk to health or risk to safety that may disproportionately affect children.

Environment

The Coast Guard has considered the environmental impact of this regulation and concluded that, under Figure 2-1, paragraph 34(g) of Commandant Instruction M16475.1C, this rule is categorically excluded from further environmental documentation. A Categorical Exclusion Determination and an Environmental Analysis Checklist is available in the docket for inspection or copying.

List of Subjects in 33 CFR Part 165

Harbors, Marine safety, Navigation (water), Reporting and record keeping requirements, Security measures, Waterways.

Regulation

For the reasons set out in the preamble, the Coast Guard amends 33 CFR Part 165 as follows:

1. The authority citation for Part 165 continues to read as follows:

Authority: 33 U.S.C. 1231; 50 U.S.C. 191; 33 CFR 1.05-1(g), 6.04-1, 6.04-6 and 160.5; 49 CFR 1.46.

2. Add temporary section, 165.T01-129, to read as follows:

§ 165.T01-129 Maine Yankee Steam Generator and Pressurizer Removal Wiscasset, ME

(a) Location. The following area is a safety zone: All waters within a 200-yard radius around the position 43°56′55″ N, 069°41′53″ W.

(b) Effective date. This section is effective from May 22, 2000 through July 22, 2000.

(c) Regulations. (1) The general regulations contained in § 165.23 and § 165.20 of this part apply.

(2) All persons and vessels shall comply with the instructions of the Coast Guard Captain of the Port or designated personnel. U.S. Coast Guard representatives of the Captain of the Port include commissioned, warrant and petty officers of the Coast Guard. Upon being hailed by U.S. Coast Guard personnel or an U.S. Coast Guard vessel, via siren, radio, flashing light, or other means, those hailed shall proceed as directed.

(3) Entry or movement within this zone is prohibited unless authorized by the Captain of the Port, Portland, ME.

Dated: May 15, 2000.
R.A. Nash
Commander, U.S. Coast Guard, Captain of the Port.

[FR Doc. 00-13042 Filed 5-23-00; 8:45 am]

BILLING CODE 4910-15-U